DEPARTMENT OF DEFENSE

Department of the Army

Proposed Collection; Comment Request

Correction

In notice document 00-6999 appearing on page 15136 in the issue of Tuesday, March 21, 2000, make the following correction:

1. On page 15136, in the second column, in the first paragraph, in the 19th line, after “information”, add “collection on repondents, including through the use of automated collection”.

2. On the same page, in the same column, in the ADDRESSES: section, in the eighth line, “Kathleen A. Dillion” should read “Kathleen A. Dillon”.

[FR Doc. C0-6999 Filed 3-30-00; 8:45 am]

BILLING CODE 1505-01-D